DEPARTMENT OF THE INTERIOR

Fish and Wildlife Service

[FWS-R4-R-2008-N0117; 40136-1265-0000-S3]

Swanquarter National Wildlife Refuge, Hyde County, NC

AGENCY: Fish and Wildlife Service, Interior.

ACTION: Notice of availability; draft comprehensive conservation plan and environmental assessment; request for comments.

SUMMARY: We, the Fish and Wildlife Service (Service), announce the availability of a draft comprehensive conservation plan and environmental assessment (Draft CCP/EA) for Swanquarter National Wildlife Refuge for public review and comment. In this Draft CCP/EA, we describe the alternative we propose to use to manage this refuge for the 15 years following approval of the final CCP.

DATES: To ensure consideration, we must receive your written comments by August 4, 2008.

ADDRESSES: Request for copies of the Draft CCP/EA should be addressed to: Bruce Freske, Refuge Manager, Swanquarter National Wildlife Refuge, 38 Mattamuskeet Road, Swan Quarter, NC 27885. The Draft CCP/EA may also be accessed and downloaded from the Service's Internet Site: http://southeast.fws.gov/planning. Comments on the Draft CCP/EA may be submitted to the above address or via electronic mail to: Bruce Freske@fws.gov.

FOR FURTHER INFORMATION CONTACT: Bruce Freske; Telephone: 252/926-4021; or Fax: 252/926-1743.

SUPPLEMENTARY INFORMATION:

Introduction

With this notice, we continue the CCP process for Swanquarter National Wildlife Refuge. We started the process through a notice in the Federal Register on November 3, 2000 (65 FR 66256).

Swanquarter National Wildlife Refuge, on Pamlico Sound in Hyde County, NC, was established by Presidential Order on June 23, 1932. The Service has acquired all of the property within the refuge's acquisition boundary. The refuge consists of 16,411 acres of saltmarsh islands and forested wetlands interspersed with potholes, creeks, and drains. Marsh vegetation is dominated by black needlerush and sawgrass. The mainland is forested by loblolly pine, pond pine, and bald cypress. Approximately 8,800 acres of the refuge have been designated as wilderness. An additional 27,082 acres of adjacent, non-refuge open water are closed by presidential proclamation to the taking of migratory birds. The purposes of the refuge are: “for use as an inviolate sanctuary, or for any other management purpose, for migratory birds;” “for the development, advancement, management, conservation, and protection of fish and wildlife resources * * * for the benefit of the United States Fish and Wildlife Service, in performing its activities and services;” and for the supplemental purpose of protecting and providing a wilderness area.

Swanquarter National Wildlife Refuge is in the South Atlantic Coastal Plain Ecosystem and is part of the migration corridor for migratory birds that use the Atlantic Flyway. Wildlife species of management concern on the refuge include the American black duck, lesser scaup, canvasback, redhead, surf scoter, seaside sparrow, shard-tailed sparrow, brown-headed nuthatch, black-throated green warbler, black rail, yellow rail, clapper rail, Forster's tern, peregrine falcon, bald eagle, osprey, black bear, red wolf, Carolina pygmy rattlesnake, and American alligator. The white-tailed deer is also a resident game species.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: Management of waterfowl and neotropical migratory birds, the wilderness area, and invasive species; recovery and protection of threatened and endangered species (particularly the red-cockaded woodpecker, red wolf, and American alligator); regional habitat loss and fragmentation; turbidity in open waters; land acquisition to include a minor boundary expansion; and public uses of the refuge.

CCP Alternatives, Including Our Proposed Alternative

We developed three alternatives for managing the refuge and chose Alternative B as the proposed alternative.

Alternatives

A full description of each alternative is in the Draft CCP/EA. We summarize each alternative below.

Alternative A: No Action Alternative

Under Alternative A, the no action alternative, present management of the refuge would continue at the current level. The refuge would provide habitat for migratory birds and threatened and endangered species, particularly the red-cockaded woodpecker, the red wolf, and the American alligator. Current surveying and monitoring for waterfowl, wading and colonial nesting birds, and land birds would continue, and no active surveying or monitoring of other birds, mammals, reptiles, amphibians, or fish would be conducted by refuge staff. There would be few public use and environmental education and outreach programs. Fishing and hunting of waterfowl would continue as currently managed.

Alternative B: Moderately Expand Programs (Proposed Alternative)

Under Alternative B, the proposed alternative, the refuge would continue to provide habitat for migratory birds, threatened and endangered species, and other waterfowl and fauna. Surveying and monitoring would be expanded to obtain baseline data on other species, and would include other birds, mammals, reptiles, amphibians, and fish. The refuge would monitor the effects of management activities on flora and fauna and adapt as needed. The public use and environmental education and outreach programs would be increased to include conducting two to ten programs for local school groups. Fishing and hunting opportunities would be expanded by increasing the number of use days and introducing deer hunting with archery equipment. An interpretive trail or boardwalk would be developed to provide greater access to the public.

Alternative C: Optimally Expand Programs

Under Alternative C, the activities under Alternative B would be further expanded. More wildlife and habitat surveying and monitoring would be conducted; environmental education and outreach programs would be increased to include conducting ten to fifteen programs for local school groups; hunting and fishing use days would increase and deer hunting with both archery equipment and primitive firearms would be introduced; an interpretive trail or boardwalk would be developed, as well as a canoe trail; and a photo blind would be constructed. In addition, development and management of moist-soil units for migratory birds would be considered.

Next Step

After the comment period ends, we will analyze the comments and address them in the form of a final CCP and Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: May 19, 2008.
Cynthia K. Dohner,
Acting Regional Director.

[FR Doc. E8-15117 Filed 7-2-08; 8:45 am]

BILLING CODE 4310-55-P